DEPARTMENT OF TRANSPORTATION

Pipeline and Hazardous Materials Safety Administration

[Docket No. PHMSA-2021-0039]

RIN 2137-AF51

Pipeline Safety: Pipeline Leak Detection, Leak Repair, and Methane Emission Reductions Public Meeting

AGENCY: Pipeline and Hazardous Materials Safety Administration (PHMSA), DOT.

ACTION: Notice of public meeting.

SUMMARY: This notice announces a public meeting during which stakeholder groups and members of the public will have the opportunity to share and discuss perspectives on improving gas pipeline leak detection and repair. PHMSA expects to cover subjects that include examining the sources of methane emissions from natural gas pipeline systems, current regulatory requirements for managing fugitive and vented emissions, industry leak detection and repair practices, and the use of advanced technologies and practices to reduce methane emissions from gas pipeline systems. The meeting will occur virtually on May 5-6, 2021. This discussion is intended to inform a rulemaking and report to Congress on natural gas pipeline leak detection and repair mandated by Sections 113 and 114 of the Protecting our Infrastructure of Pipelines and Enhancing Safety Act of 2020.

DATES: The leak detection and repair public meeting will occur on May 5-6, 2021. Members of the public who want to participate in the virtual meeting must register no later than April 30, 2021. Individuals requiring accommodations, such as sign language interpretation or other aids, are asked to notify PHMSA no later than April 26, 2021. For additional information, please see the ADDRESSES section of this notice.

Individuals who are interested in submitting comments on the subject of the public meeting must do so by May 24, 2021.

ADDRESSES: This meeting will be held virtually. The meeting agenda and instructions on how to attend virtually will be published once they are finalized on the following public meeting registration page at: https://primis.phmsa.dot.gov/meetings/MtgHome.mtg?mtg=152. Presentations will be available on the meeting website and on the E-gov website, https://regulations.gov, under docket number PHMSA-2021-0039, no later than 30 days following the meeting. You may submit comments, identified by Docket No. PHMSA-2021-0039, by any of the following methods:

• E-Gov Web: http://www.regulations.gov. This site allows the public to enter comments on any Federal Register notice issued by any agency. Follow the online instructions for submitting comments.

• Mail: Docket Management System: U.S. Department of Transportation, 1200 New Jersey Avenue SE, West Building Ground Floor, Room W12-140, Washington, DC 20590-0001.

• Hand Delivery: DOT Docket Management System: West Building Ground Floor, Room W12-140, 1200 New Jersey Avenue SE, between 9:00 a.m. and 5:00 p.m. ET, Monday through Friday, except Federal holidays.

• Fax: 202-493-2251.

• Instructions: Identify the Docket No. PHMSA-2021-0039, at the beginning of your comments. If you submit your comments by mail, please submit two copies. If you wish to receive confirmation that PHMSA received your comments, you must include a self-addressed stamped postcard. Internet users may submit comments at: http://www.regulations.gov.

• Note: All comments received are posted without edits to http://www.regulations.gov, including any personal information provided. Please see the Privacy Act heading below.

• Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

• Confidential Business Information: Confidential Business Information (CBI) is commercial or financial information that is both customarily and actually treated as private by its owner. Under the Freedom of Information Act (5 U.S.C. 552), CBI is exempt from public disclosure. If your comments in response to this notice contain commercial or financial information that is customarily treated as private, that you actually treat as private, and that is relevant or responsive to this notice, it is important that you clearly designate the submitted comments as CBI. Pursuant to 49 Code of Federal Regulations (CFR) § 190.343, you may ask PHMSA to provide confidential treatment to information you give to the agency by taking the following steps: (1) Mark each page of the original document submission containing CBI as “Confidential;” (2) send PHMSA a copy of the original document with the CBI deleted along with the original, unaltered document; and (3) explain why the information you are submitting is CBI. Unless you are notified otherwise, PHMSA will treat such marked submissions as confidential under the Freedom of Information Act and only the redacted version will be placed in the public docket of this notice. Submissions containing CBI should be sent to Sayler Palabrica, 1200 New Jersey Avenue SE, DOT: PHMSA—PHP-30, Washington, DC 20590-0001. Any commentary PHMSA receives that is not specifically designated as CBI will be placed in the public docket.

• Docket: For access to the docket to read background documents or comments received, go to http://www.regulations.gov. Follow the online instructions for accessing the dockets. Alternatively, you may review the documents in person at the street address listed above.

FOR FURTHER INFORMATION CONTACT: Sayler Palabrica by phone at 202-744-0825 or via email at sayler.palabrica@dot.gov.

Sam Hall by phone at 804-551-3876 or via email at sam.hall@dot.gov.

SUPPLEMENTARY INFORMATION:

I. Background

Natural gas is composed primarily of methane, a greenhouse gas several times more potent than carbon dioxide. Prompt detection and repair of methane leaks from gas pipelines can result in safety, environmental and economic benefits. Section 113 of the Protecting our Infrastructure of Pipelines and Enhancing Safety Act of 2020 (PIPES Act of 2020; Division R of the Consolidated Appropriations Act of 2021; Pub. L. 116-260) mandates that the Secretary of Transportation promulgate a final rule concerning gas pipeline leak detection and repair programs no later than one year after the enactment of the law (i.e., by December 27, 2021).

Additionally, Section 114(a) and (b) of the PIPES Act of 2020 requires that each pipeline operator update their inspection and maintenance plans to contribute to eliminating hazardous leaks and minimizing releases of natural gas from pipeline facilities and for PHMSA and its state partners to inspect these plans. Section 114(c) mandates that the Comptroller General of the United States conduct a study and provide a report evaluating the procedures used by the Secretary of Transportation and the states in reviewing the plans prepared by pipeline operators and provide recommendations for how to further minimize natural gas releases. Finally, Section 114(d) directs PHMSA to submit a report to Congress discussing the best available technologies or practices to prevent or minimize the need to intentionally vent natural gas, without compromising pipeline safety, during pipeline repairs, replacements, maintenance, and operations. Section 114(d)(2) further directs PHMSA to issue rulemaking based on the results of that report.

The proceedings from this meeting, including public discussion and comments, are intended to inform PHMSA's approach to issuing a rulemaking related to the Section 113 leak detection and repair mandate and the inspection, reporting, and rulemaking requirements in Section 114.

II. Meeting Details and Agenda

The gas pipeline leak detection and repair public meeting will include discussions between government, public interest groups (environmental advocacy and public safety stakeholders), industry, and the general public on leaks and emissions from pipeline systems and how best to detect and repair them. On May 5, 2021, the agenda will include an introduction from PHMSA on the mandates from the PIPES Act of 2020 and panel discussions on perspectives from Federal and state safety and environmental regulators, public interest groups, and the regulated industry. The agenda for May 6, 2021, is focused on research and development efforts on leak detection and repair technologies and best practices. Each segment will include a question-and-answer period, and there will be an additional opportunity for public comment at the end of each day. PHMSA will provide a meeting agenda on the meeting registration web page listed in the ADDRESS section of this notice.

III. Public Participation

The meeting will be open to the public. Members of the public who wish to attend must register on the meeting website and include their names and organization affiliation. PHMSA will provide members of the public with opportunities to make statements during the course of this meeting. PHMSA is committed to providing all participants with equal access to this meeting. If you need disability accommodations, please contact Sam Hall by phone at 804-551-3876 or via email at sam.hall@dot.gov.

PHMSA is not always able to publish a notice in the Federal Register quickly enough to provide timely notice regarding last minute issues that may impact a previously announced meeting. Therefore, individuals should check the meeting website listed in the ADDRESSES section of this notice or contact Sam Hall by phone at 804-551-3876 or via email at sam.hall@dot.gov regarding any possible changes.

PHMSA invites public participation and public comment on the topics of this meeting. Please review the ADDRESSES section of this notice for information on how to submit written comments.

Issued in Washington, DC, on April 2, 2021, under authority delegated in 49 CFR 1.97.
Alan K. Mayberry,
Associate Administrator for Pipeline Safety.

[FR Doc. 2021-07152 Filed 4-6-21; 8:45 am]

BILLING CODE 4910-60-P